DEPARTMENT OF LABOR

Employee Benefits Security Administration

Advisory Council on Employee Welfare and Pension Benefit Plans; Notice of Meeting

Pursuant to the authority contained in Section 512 of the Employee Retirement Income Security Act of 1974 (ERISA), 29 U.S.C. 1142, an open meeting of the full Advisory Council on Employee Welfare and Pension Benefit Plans will be held on Wednesday, November 9, 2004.

The session will take place in Room N-3437 A-C, U.S. Department of Labor, 200 Constitution Avenue NW., Washington, DC 20210. The purpose of the open meeting, which will run from 4 p.m. to approximately 5:30 p.m., is for Council members to conclude their discussions and make recommendations to the Secretary of Labor regarding the next National Summit on Retirement Savings.

Organizations or members of the public wishing to submit a written statement pertaining to the topic may do so by submitting 20 copies to Larry Good, Executive Secretary, ERISA Advisory Council, U.S. Department of Labor, Room N-5656, 200 Constitution Avenue, NW., Washington, DC 20210. Statements received on or before November 3, 2004 will be included in the record of the meeting. Individuals or representatives of organizations wishing to address the Advisory Council should forward their request to the Executive Secretary at the above address or via telephone at (202) 693-8668. Oral presentations will be limited to 10 minutes, but an extended statement may be submitted for the record. Individuals with disabilities who need special accommodations should contact Larry Good by November 3 at the address indicated in this notice.

Signed at Washington, DC this 19th day of October, 2004.
Ann L. Combs,
Assistant Secretary, Employee Benefits Security Administration.

[FR Doc. 04-23794 Filed 10-22-04; 8:45 am]

BILLING CODE 4510-29-M